DEPARTMENT OF AGRICULTURE

Commodity Credit Corporation

Farm Service Agency

[Docket ID: FSA-2024-0006]

Information Collection Request; Assignment of Payment; Joint Payment Authorization; and Request for Waiver

AGENCY: Commodity Credit Corporation and Farm Service Agency, USDA.

ACTION: Notice; request for comments.

SUMMARY: In accordance with the Paperwork Reduction Act requirement, the Commodity Credit Corporation (CCC), and Farm Service Agency (FSA) are requesting comments from all interested individuals and organizations on a revision and an extension of a currently approved information collection.

DATES: We will consider comments that we receive by July 30, 2024.

ADDRESSES: We invite you to submit comments on this notice. You may submit comments electronically through Federal eRulemaking portal, identified by Docket ID: fsa02024-0006: Go to http://www.regulations.gov. Follow the online instructions for submitting comments.

You may also send comments to the Desk Officer for Agriculture, Office of Information and Regulatory Affairs, Office of Management and Budget, Washington, DC 20503.

Copies of the information collection may be requested by contacting Yanira Sanabria by calling her.

FOR FURTHER INFORMATION CONTACT: For specific questions related to collection activities, Yanira Sanabria, (202) 772-6032; email: yanira.sanabria@usda.gov. Persons with disabilities who require alternative mean for communication should contact the USDA's TARGET Center at (202) 720-2600 (Voice).

SUPPLEMENTARY INFORMATION:

Title: Assignment and Joint Payment Elections.

Forms: CCC-36, “Assignment of Payment;” CCC-37, “Joint Payment Authorization;” and-FPAC-FMD-12 Electronic Funds Transfer (EFT) Hardship Waiver Request.

OMB Control Number: 0560-0183.

Expiration Date of Approval: August 31, 2024.

Type of Request: Revision and extension of a currently approved information collection request.

Abstract: FSA and CCC are requesting an extension with a revision of the currently approved information. Section 8(g) of the Soil Conservation and Domestic Allotment Act (16 U.S.C. 590h(g)) authorizes producers to assign FSA conservation program payments in accordance with regulations issued by the Secretary. The Assignment of Payments regulation as specified in 7 CFR part 1404 requires that any such assignment be signed by both the assignor and the assignee. The Agricultural Act of 1949, as amended, extends that authority to CCC programs, including rice, feed grains, cotton, and wheat. The Natural Conservation Service (NRCS) is also using the forms, but most NRCS programs are exempt from the PRA.

Producers (Assignors) use form CCC-36-Assignment of Payment to assign payments under various CCC, FSA, or NRCS programs. Customers may submit a completed CCC-36 to any FSA and NRCS County Office to be entered into the Financial Services application or the NRCS ProTracts web application. County Office data entry requires a second user for verification. The second user may be located in the same County Office or another Office. When there is no second user available, an employee from another County Office may perform this action by submitting a faxed copy of the form.

Producers use form CCC-37-Joint Payment Authorization to make program payments from the CCC or FSA jointly payable to multiple entities. They must submit the form in hard copy or electronically to the FSA County office that retains copies for the producer and joint payee. No fax is allowed for this form. There are no regulations governing joint payments (CCC-37-Joint Payment Authorization), but this service is offered as a result of public requests for the type of payment option.

Customers may use the form FPAC FMD-12, Electronic Funds Transfer (EFT) Hardship Waiver Request for FSA. Payments of Federal Benefits by Check to invoke a hardship waiver payment. In accordance with Treasury Regulation 31 CFR 208, Payments by electronic funds transfer (EFT) are not required for anyone over the age of 90 born prior to May 1, 1921. The hardship waiver request can currently be submitted either in person or by phone call to the local county FSA office by entering the waiver request in the Financial Service application for the following reasons: Geographic Barrier or Mental Impairment.

The differences in the forms are that FSA use a tax identification number instead of a social security number. Most NRCS programs and some FSA programs are exempt from the Paperwork Reduction Act.

In the information collection request, the number of responses and respondents decreased by 262,107 and the burden hours also decreased by 43,725 which were all due to fewer producers or farmers participating in several programs such as the Coronavirus Food Assistance Program (CFAP), Wildfires and Hurricanes Indemnity Program, and other FSA programs. The forms of CCC-251 and CCC-252 were removed from the collection due to less than 10 respondents using each form.

For the following estimated total annual burden on respondents, the formula used to calculate the total burden hours is the estimated average time per response multiplied by the estimated total annual responses.

Estimate of Respondent Burden: Public reporting burden for collecting information under this notice is estimated to average 0.1667 hour per response, including the time for reviewing instructions, searching existing data sources, gathering and maintaining the data needed, and completing and reviewing the collections of information.

Type of Respondents: Producers participating in FSA, CCC, and NRCS programs.

Estimated Number of Respondents: 202,612.

Estimated Average Number of Responses per Respondent: 2.163.

Estimated Total Annual Responses: 438,584.

Estimated Average Time per Response: 0.1664.

Estimated Total Annual Burden on Respondents: 72,962 hours.

We are requesting comments on all aspects of this information collection to help FSA:

(1) Evaluate whether the proposed collection of information is necessary for the proper performance of the functions of the agency, including whether the information will have practical utility;

(2) Evaluate the accuracy of the agency's estimate of burden of the collection of information including the validity of the methodology and assumptions used;

(3) Evaluate the quality, ability and clarity of the information technology; and

(4) Minimize the burden of the information collection on those who respond through the use of appropriate automated, electronic, mechanical, or other technological collection techniques or other forms of information technology.

All comments received in response to this notice, including names and addresses when provided, will be made a matter of public record. Comments will be summarized and included in the submission for Office of Management and Budget approval.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Zach Ducheneaux,
Executive Vice President, Commodity Credit Corporation. Administrator, Farm Service Agency.

[FR Doc. 2024-12001 Filed 5-30-24; 8:45 am]

BILLING CODE 3410-05-P